DEPARTMENT OF HOUSING AND URBAN DEVELOPMENT

[Docket No. FR-5030-C-21A, 22A]

Notice of HUD's Fiscal Year (FY) 2006 Notice of Funding Availability, Policy Requirements and General Section to SuperNOFA for HUD's Discretionary Grant Programs; Correction

AGENCY: Office of the Secretary, HUD.

ACTION: Super Notice of Funding Availability (SuperNOFA) for HUD Discretionary Grant Programs; Correction.

SUMMARY: On March 8, 2006, HUD published its Fiscal Year (FY) 2006 SuperNOFA (SuperNOFA), for HUD's Discretionary Grant Programs. This document makes corrections to the notices of funding availability (NOFA) for the Section 202 Supportive Housing for the Elderly Program (Section 202) and the Section 811 Supportive Housing for Persons with Disabilities Program (Section 811). Through this notice, HUD is announcing that it has amended its requirement for the preparation of Phase I Environmental Site Assessments (ESA) to permit HUD to accept as an acceptable Phase I ESA, either one that had been prepared based on the current American Society for Testing and Material (ASTM) Standard E 1527-05 or the previous Standard E 1527-00. Because the requirement to submit a Phase I ESA is a threshold issue that does not affect an applicant's scoring, HUD is not reopening either the Section 202 or Section 811 competitions and will not accept additional applications.

DATES: The application submission dates for the Section 202 and Section 811 programs of the FY2006 SuperNOFA remain as published in the Federal Register on March 8, 2006.

FOR FURTHER INFORMATION CONTACT: For the programs listed in this notice, please contact the office or individual listed under Section VII of the individual program sections of the SuperNOFA, published on March 8, 2006.

SUPPLEMENTARY INFORMATION: On March 8, 2006 (71 FR 11712), HUD published its Notice of HUD's Fiscal Year (FY) 2006, SuperNOFA for HUD's Discretionary Grant Programs. The FY2006 SuperNOFA announced the availability of approximately $2.2 billion in HUD assistance. On April 28, 2006, HUD published (71 FR 25208), a notice that further clarified the Section 202 and Section 811 NOFAs. This notice published in today's Federal Register corrects the Section 202 and Section 811 NOFAs. As described in further detail below, this notice announces that for both the Section 202 and Section 811 programs, HUD will accept as a Phase I ESA, either one that had been prepared based on the current ASTM E 1527-05 or the previous E 1527-00. Since the requirement to submit a Phase I ESA is a threshold issue that does not affect an applicant's scoring, HUD is not reopening either the Section 202 or Section 811 competitions and will not accept additional applications.

I. Changes to the Section 202 and Section 811 NOFAs

HUD is amending its Section 202 and Section 811 NOFAs to permit HUD to accept Phase I ESAs that were prepared in accordance with either the current ASTM E 1527-05 or the previous E 1527-00. This amendment recognizes that the Environmental Protection Agency (EPA), in its final rule entitled, “Standards and Practices for All Appropriate Inquires” (70 FR 66070, November 1, 2005) provided, that until the rule's effective date, November 1, 2006, either ASTM Standard E 1527-00 or 1527-05 could be used to comply with 40 CFR 312.23 through 312.31, its rules implementing the “all appropriate inquiry” (AAI) requirements of the Comprehensive Environmental Response Compensation and Liability Act (CERCLA) (42 U.S.C. 9601 et seq.).

As a result, HUD decided to be proactive by requiring, in its FY2006 Section 202 and Section 811 NOFAs, that the Phase I ESA be prepared in accordance with ASTM Standard E 1527-05 instead of ASTM Standard E 1527-00. Unfortunately, many Section 202 and 811 applicants and the environmental professionals employed by the applicants misread, misinterpreted or were confused by HUD's revised Phase I requirements and did not perform the Phase I ESAs in accordance with ASTM Standard E 1527-05. HUD has determined, therefore, that it would be in the public's best interest to amend the FY2006 Section 202 and Section 811 NOFAs to permit HUD to accept the Phase I ESA prepared in accordance with either ASTM Standard E 1527-00 or ASTM Standard E 1527-05.

II. Summary of Corrections

Section 202 Program. On page 12014, section III.C.2.b.(3)(c)(i), Phase I Environmental Site Assessment (ESA), third column, the requirement that the Phase I ESA be prepared in accordance with the ASTM Standard E 1527-05, as amended, is revised to require, and to permit HUD to accept, Phase I ESAs that have been prepared in accordance with either ASTM Standard E 1527-00 or E 1527-05.

On page 12020, section IV.B.2.c.(1)(d)(vii), A Phase I Environmental Site Assessment (ESA), third column, the requirement that applicants must undertake and complete a Phase I ESA that has been prepared in accordance with ASTM Standard E 1527-05, as amended, and submit it with their Section 202 applications is amended to require, and to permit HUD to accept, Phase I ESAs that have been prepared in accordance with either ASTM Standard E 1527-00 or E 1527-05.

Section 811 Program. On page 12035, section III.C.2.b.(3)(d)(i), Phase I Environmental Site Assessment (ESA), third column, the requirement that the Phase I ESA be prepared in accordance with the ASTM Standard E 1527-05, as amended, is revised to require, and to permit HUD to accept, Phase I ESAs that have been prepared in accordance with either ASTM Standard E 1527-00 or Standard E 1527-05.

On page 12043, section IV.B.2.c.(1)(d)(vii), A Phase I Environmental Site Assessment (ESA), third column, the requirement that applicants must undertake and complete a Phase I ESA that has been prepared in accordance with ASTM Standard E 1527-05, as amended, and submit it with their Section 811 applications is amended to require, and to permit HUD to accept, Phase I ESAs that have been prepared in accordance with either ASTM Standard E 1527-00 or E 1527-05.

Accordingly, in the Notice of HUD's Fiscal Year (FY) 2006, Notice of Funding Availability (NOFA), Policy Requirements and General Section to the SuperNOFA for HUD's Discretionary Grant Programs, beginning at 71 FR 11712, in the issue of March 8, 2006, the following corrections are made.

1. Section 202 Supportive Housing for the Elderly Program.

On page 12014, third column, revise section III.C.2.b.(3)(c)(i) to read as follows:

(i) Phase I Environmental Site Assessment (ESA). You must undertake and submit a Phase I ESA, prepared in accordance with ASTM Standard E 1527-05, as amended, or ASTM Standard E 1527-00, as amended, completed or updated no earlier than six months prior to the application deadline date. The Phase I ESA must be completed and submitted with the application. Therefore, it is important that you start the Phase I ESA process as soon after publication of the SuperNOFA as possible. To help you choose an environmentally safe site, HUD invites you to review the documents “Choosing an Environmentally Safe Site” and “Supplemental Guidance, Environmental Information,” which are available on the HUD Web site at http://www.hud.gov/offices/adm/grants/fundsavail.cfm.

On page 12020, third column, revise section IV.B.2.c.(1)(d)(vii) to read as follows:

(vii) A Phase I Environmental Site Assessment (ESA), in accordance with ASTM Standards E 1527-05, as amended, or ASTM Standard E 1527-00, as amended, must be undertaken and completed by you and submitted with the application. In order for the Phase I ESA to be acceptable, it must have been completed or updated no earlier than six months prior to the application deadline date. Therefore, it is important to start the site assessment process as soon after the publication of the NOFA as possible.

2. Section 811 Supportive Housing for Persons with Disabilities Program.

On page 12035, third column, revise section III.C.2.b.(3)(d)(i) to read as follows:

(i) Phase I Environmental Site Assessment (ESA). You must submit a Phase I ESA, prepared in accordance with ASTM Standard E 1527-05, as amended, or ASTM Standard E 1527-00, as amended, completed or updated no earlier than six months prior to the application deadline date in order for the application to be considered as an application with site control. The Phase I ESA must be completed and in your application. Therefore, it is important that you start the Phase I ESA process as soon after publication of the SuperNOFA as possible. To help you choose an environmentally safe site, HUD invites you to review the documents “Choosing an Environmentally Safe Site” and “Supplemental Guidance, Environmental Information,” which are available on the HUD Web site at http://www.hud.gov/offices/adm/grants/fundsavail.cfm.

On page 12043, first column, revise section IV.B.2.c.(1)(d)(vii) to read as follows:

(vii) A Phase I Environmental Site Assessment (ESA), in accordance with ASTM Standard E 1527-05, as amended, or ASTM Standard E 1527-00, as amended, must be completed and submitted with the application. In order for the Phase I ESA to be acceptable, it must have been completed or updated no earlier than six months prior to the application deadline date. Therefore, it is important to start the site assessment process as soon after the publication of the NOFA as possible.

Dated: July 28, 2006.
Brian D. Montgomery,
Assistant Secretary for Housing—Federal Housing Commissioner.

[FR Doc. E6-12498 Filed 8-2-06; 8:45 am]

BILLING CODE 4210-67-P